FEDERAL COMMUNICATIONS COMMISSION

Notice of Public Information Collection(s) Being Reviewed by the Federal Communications Commission for Extension Under Delegated Authority, Comments Requested

March 1, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments May 6, 2002. If you anticipate that you will be submitting comments, but find it difficult to do so within the period of time allowed by this notice, you should advise the contact listed below as soon as possible.

ADDRESSES: Direct all comments to Judith Herman, Federal Communications Commission, 445 12th Street, SW., Room 1-C804, Washington, DC 20554 or via Internet to jbherman@fcc.gov.

FOR FURTHER INFORMATION CONTACT: For additional information or copies of the information collections contact Judith Herman at 202-418-0214 or via Internet at jbherman@fcc.gov.

SUPPLEMENTARY INFORMATION: OMB Control No.: 3060-0835.

Title: Ship Inpsection Certificates.

Form Nos: FCC 806, 824, 827, and 829.

Type of Review: Extension of a currently approved collection.

Respondents: Business or Other for Profit.

Number of Respondents: 1,210.

Estimated Time Per Response: 5 minutes (.084 hours).

Total Annual Burden: 102 hours.

Estimated Annual Reporting and Recordkeeping Cost Burden: $0.

Frequency of Response: Annual reporting requirement.

Needs and Uses: The Communications Act requires that the Commission must inspect the radio installation of large cargo ships and certain passenger ships at least once a year to ensure that the radio installation is in compliance with the requirements of the Communications Act. Additionally, the communications Act requires the inspection of small passenger ships at least once every five years. The Safety Convention (which the United States is signatory) also requires an annual inspection, however, permits an Administration to entrust the inspections to either surveyors nominated for the purpose or to organizations recognized by it. There, the United States can have other entities conduct the radio inspection of vessels for compliance with the Safety Convention. The Commission adopted Rules that FCC-licensed technicians provide a summary of the results of the inspection in the ship's log and provide the vessel with a ship inspection safety certificate.

Federal Communications Commission.
William F. Caton,
Acting Secretary.

[FR Doc. 02-5398 Filed 3-6-02; 8:45 am]

BILLING CODE 6712-01-P